DEPARTMENT OF THE INTERIOR

Fish and Wildlife Service

Proposed Safe Harbor Agreement for the Valley Elderberry Longhorn Beetle for River Partners in Glenn County, California

AGENCY: Fish and Wildlife Service, Interior.

ACTION: Notice of availability; receipt of application.

SUMMARY: This notice advises the public that River Partners (Applicant) has applied to the U.S. Fish and Wildlife Service (Service) for an enhancement of survival permit pursuant to section 10(a)(1)(A) of the Endangered Species Act of 1973, as amended (Act). The permit application includes a proposed Safe Harbor Agreement (Agreement) between the Applicant and the Service for the threatened valley elderberry longhorn beetle (VELB) (Desmocerus californicus dimorphus). The Agreement and permit application are available for public comment.

DATES: Written comments should be received on or before May 19, 2006.

ADDRESSES: Comments should be addressed to Shannon Holbrook, U.S. Fish and Wildlife Service, Sacramento Fish and Wildlife Office, 2800 Cottage Way, W-2605, Sacramento, California 95825. Written comments may be sent by facsimile to (916) 414-6711.

FOR FURTHER INFORMATION CONTACT: Ms. Shannon Holbrook, Sacramento Fish and Wildlife Office (see ADDRESSES); telephone: (916) 414-6600.

SUPPLEMENTARY INFORMATION:

Availability of Documents

You may obtain copies of the documents for review by contacting the individual named above. You may also make an appointment to view the documents at the above address during normal business hours.

Background

Under a Safe Harbor Agreement, participating landowners voluntarily undertake management activities on their property to enhance, restore, or maintain habitat benefiting species listed under the Act (16 U.S.C. 1531 et seq.). Safe Harbor Agreements, and the subsequent enhancement of survival permits that are issued pursuant to Section 10(a)(1)(A) of the Act, encourage private and other non-Federal property owners to implement conservation efforts for listed species by assuring property owners that they will not be subjected to increased property use restrictions as a result of their efforts to attract listed species to their property, or to increase the numbers or distribution of listed species already on their property. Application requirements and issuance criteria for enhancement of survival permits through Safe Harbor Agreements are found in 50 CFR 17.22(c).

We have worked with the Applicant to develop the proposed Agreement for the conservation of the VELB on the Del Rio Wildland Preserve (Enrolled Property) in Butte City, Glenn County, California. The 259-acre Del Rio Wildland Preserve subject to this Agreement is located in the southeastern corner of Glenn County just south of the Llano Seco Rancho. The property occupies flood-prone land between the Sacramento River Flood Control Project setback levee and Angel Slough. The property currently is divided into existing riparian habitat, an ongoing restoration project, and a walnut orchard.

This Agreement provides for the restoration, enhancement, and management of riparian habitat suitable for the VELB on the Enrolled Property. The proposed duration of the Agreement is 20 years, and the proposed term of the enhancement of survival permit is 25 years, provided that the Service determines that the actions identified in the Agreement were implemented prior to the Agreement's expiration. When fully implemented, the Agreement and requested enhancement of survival permit will allow the Applicants to return to baseline after the end of the 20-year term of the Agreement and prior to the expiration of the 25-year permit, if so desired by the Applicants. The Agreement fully describes the management activities to be undertaken by the Applicant, and the net conservation benefits expected to the VELB.

Upon approval of this Agreement, and consistent with the Service's Safe Harbor Policy published in the Federal Register on June 17, 1999 (64 FR 32717), the Service would issue a permit to the Applicants authorizing take of the VELB incidental to the implementation of the management activities specified in the Agreement, incidental to other lawful uses of the Enrolled Property including normal, routine land management activities, and to return to pre-Agreement conditions (baseline).

Under the Agreement, the Applicants would undertake management activities to benefit the VELB by planting over 1,500 elderberry plants in a matrix of native riparian plants that will benefit a variety of riparian dependent wildlife species including the VELB; completing restoration of 231 acres of agricultural land into riparian habitat with a diverse native plant community and high structural diversity; controlling invasive weeds; and increasing the connectivity of riparian forest within the Enrolled Property and along the Sacramento River.

Elderberry bushes (Sambucus sp.) are the exclusive host plants for the larval VELB, which develops inside the stems of the bush. In order to receive the above assurances regarding incidental take of the VELB, the Applicant must maintain baseline on the Enrolled Property. The Service and Applicants have determined that the measure of baseline for VELB will be the number of elderberry bushes having one or more stems that are 1 inch or greater in diameter at the base. Therefore, the Enrolled Property's baseline is one naturally occurring elderberry bush with nine stems each greater than 1 inch in diameter at the base.

Public Review and Comments

The Service has made a preliminary determination that the proposed Agreement and permit application are eligible for categorical exclusion under the National Environmental Policy Act of 1969 (NEPA). We explain the basis for this determination in an Environmental Action Statement that is also available for public review.

Individuals wishing copies of the permit application, copies of our Environmental Action Statement, and/or copies of the full text of the Agreement, including a map of the proposed permit area, references, and legal descriptions of the proposed permit area, should contact the office and personnel listed in the ADDRESSES section above.

If you wish to comment on the permit application or the Agreement, you may submit your comments to the address listed in the ADDRESSES section of this document. Comments and materials received, including names and addresses of respondents, will be available for public review, by appointment, during normal business hours at the address in the ADDRESSES section above and will become part of the public record, pursuant to section 10(c) of the Act. Individual respondents may request that we withhold their home address from the record, which we will honor to the extent allowable by law. There also may be circumstances in which we would withhold from the record a respondent's identity, as allowable by law. If you wish us to withhold your name and/or address, you must state this prominently at the beginning of your comment. Anonymous comments will not be considered. All submissions from organizations or businesses, and from individuals identifying themselves as representatives or officials of organizations or businesses, are available for public inspection in their entirety.

We will evaluate this permit application, associated documents, and comments submitted thereon to determine whether the permit application meets the requirements of section 10(a) of the Act and NEPA regulations. If we determine that the requirements are met, we will sign the proposed Agreement and issue an enhancement of survival permit under section 10(a)(1)(A) of the Act to the Applicants for take of the VELB incidental to otherwise lawful activities in accordance with the terms of the Agreement. We will not make our final decision until after the end of the 30-day comment period and will fully consider all comments received during the comment period.

The Service provides this notice pursuant to section 10(c) of the Act and pursuant to implementing regulations for NEPA (40 CFR 1506.6).

Dated: April 13, 2006.
Susan Moore,
Acting Field Supervisor, Sacramento Fish and Wildlife Office, Sacramento, California.

[FR Doc. E6-5850 Filed 4-18-06; 8:45 am]

BILLING CODE 4310-55-P